SECURITIES AND EXCHANGE COMMISSION

[Release No. 34-46669; File No. 10-133]

Acknowledgement of Receipt of Notice of Registration as a National Securities Exchange Pursuant to Section 6(g) of the Securities Exchange Act of 1934 by OneChicago, LLC

October 16, 2002.

Section 6(g) of the Securities Exchange Act of 1934 (“Exchange Act”) ¹ provides that an exchange may register as a national securities exchange solely for the purposes of trading security futures products by filing a written notice with the Securities and Exchange Commission (“Commission”) if such exchange is designated as a contract market by the Commodity Futures Trading Commission or registered as a derivative transaction execution facility under section 5a of the Commodity Exchange Act.² Rule 6a-4 under the Exchange Act ³ requires that such an exchange submit written notice of registration to the Commission on Form 1-N.⁴ An exchange's registration as a national securities exchange becomes effective contemporaneously with the submission of the written notice on Form 1-N.⁵

¹ 15 U.S.C. 78f(g).

² 7 U.S.C. 7a.

³ 17 CFR 240.6a-4.

⁴ Upon receipt of a Form 1-N, the Division of Market Regulation examines the notice to determine whether all necessary information has been supplied and whether all other required documents have been furnished in proper form. Exchange Act Rule 202.3(b)(3), 17 CFR 202.3(b)(3).

⁵ Section 6(g)(2)(B) of the Exchange Act.

On August 22, 2002, OneChicago, LLC (“OneChicago”) filed a Form 1-N with the Commission. Pursuant to section 6(g)(3) of the Exchange Act,⁶ the Commission hereby acknowledges receipt of the Form 1-N submitted by OneChicago. Copies of the Form 1-N submitted by OneChicago, including all exhibits, are available in the Commission's Public Reference Room, File No. 10-133.

⁶ 15 U.S.C. 78f(g)(3).

For questions regarding this Release, contact: Theodore Lazo, Senior Special Counsel at (202) 942-0745, or Jennifer Colihan, Special Counsel at (202) 942-0735; Division of Market Regulation, Securities and Exchange Commission, 450 Fifth Street, NW, Washington, DC 20549-1001.

By the Commission.
Margaret H. McFarland,
Deputy Secretary.

[FR Doc. 02-26885 Filed 10-22-02; 8:45 am]

BILLING CODE 8010-01-P